ENVIRONMENTAL PROTECTION AGENCY

[ER-FRL-8999-9]

Environmental Impacts Statements; Notice of Availability

Responsible Agency: Office of Federal Activities, General Information (202) 564-1399 or http://www.epa.gov/compliance/nepa/. Weekly receipt of Environmental Impact Statements. Filed 10/31/2011 Through 11/04/2011 Pursuant to 40 CFR 1506.9.

Notice

Section 309(a) of the Clean Air Act requires that EPA make public its comments on EISs issued by other Federal agencies. EPA's comment letters on EIS are available at: http://www.epa.gov/compliance/nepa/eisdata.html.

EIS No. 20110375, Final EIS, USFS, AK, Coconino National Forest Travel Management Project, Proposes to Designate a System of Road and Motorized Travel, Implementation, Coconino and Yavapai County, AZ, Review Period Ends: 12/12/2011, Contact: Mike Dechter (928) 527-3416.

EIS No. 20110376, Final EIS, USFS, AZ, Pinaleno Ecosystem Restoration Project, Proposed On-the-Ground Treatments to Improve Forest Health and Improve or Protect Red Squirrel Habitat, Coronado National Forest, Graham County, AZ, Review Period Ends: 12/12/2011, Contact: Craig Wilcox (928) 348-1961.

EIS No. 20110377, Final EIS, NOAA, 00, Reef Fish Amendment 32, Gag—Rebuilding Plan, Annual Catch Limits, Management Measures, Red Grouper—Annual Catch Limits, Management Measures, Grouper Accountability Measures, Gulf of Mexico, Review Period Ends: 12/12/2011, Contact: Roy E. Crabtree (727) 824-5301.

EIS No. 20110378, Draft EIS, FHWA, LA, Tier 1—Baton Rouge Loop Toll Facility Project, Proposed as a 90 to 105 mile long Circumferential Controlled Access Free-Flow Toll Roadway with two new Mississippi River Crossings, in Parishes of Ascension, East Baton Rouge, Iberville, Livingston, and West Baton Rouge, LA, Comment Period Ends: 01/09/2012, Contact: Cark N, Highsmith (225) 757-7615.

EIS No. 20110379, Draft EIS, USN, HI, Basing of MV-22 and H-1 Aircraft in Support of III Marine Expeditionary Force (MEF) Elements, Construction and Renovation of Facilities to Accommodate and Maintain the Squadrons, HI, Comment Period Ends: 12/27/2011, Contact: John Bigay (808) 472-1196.

EIS No. 20110380, Second Draft Supplement, NRC, TN, Related to the Operation of Watts Bar Nuclear Plant Units 2, New and Updated Information, Operating License, Rhea County, TN, Comment Period Ends: 01/24/2012, Contact: Justin Poole (301) 415-2048.

EIS No. 20110381, Draft EIS, WAPA, AZ, Quartzsite Solar Energy Project and Proposed Yuma Field Office Resource Management Plan Amendment, Implementation, Right-of-Way Application to the BLM, La Paz County, AZ, Comment Period Ends: 02/08/2012, Contact: Liana Reilly (720) 962-7253.

EIS No. 20110382, Draft EIS, DOI, 00, Programmatic EIS—Outer Continental Shelf Oil and Gas Leasing Program—2012-2017 in Six Planning Area, Western, Central and Eastern Gulf of Mexico, Cook Inlet, the Beaufort Sea, and the Chukchi Sea, Comment Period Ends: 01/09/2012, Contact: James F. Bennett (703) 787-1660.

Amended Notices

EIS No. 20110332, Draft Supplement, USFS, MT, Montanore Project, Additional Information on Alternatives, Proposes to Construct a Copper and Silver Underground Mine and Associated Facilities, Including a New Transmission Line, Plan-of-Operation Permit, Kootenai National Forest, Sanders County, MT, Comment Period Ends: 12/21/2011, Contact: Lynn Hagarty (406) 283-7642, Revision to FR Notice Published 10/07/2011: Extending Comment Period from 11/21/2011 to 12/21/2011.

Dated: November 7, 2011.
Cliff Rader,
Acting Director, NEPA Compliance Division, Office of Federal Activities.

[FR Doc. 2011-29188 Filed 11-9-11; 8:45 am]

BILLING CODE 6560-50-P